DEPARTMENT OF COMMERCE

National Oceanic and Atmospheric Administration

RIN 0648-XC428

New England Fishery Management Council; Public Meeting

AGENCY: National Marine Fisheries Service (NMFS), National Oceanic and Atmospheric Administration (NOAA), Commerce.

ACTION: Notice; public meeting.

SUMMARY: The New England Fishery Management Council's (Council) Groundfish Oversight Committee will meet jointly with the Groundfish Advisory Panel and Recreational Advisory Panel to consider actions affecting New England fisheries in the exclusive economic zone (EEZ).

DATES: The meetings will be held on Thursday, January 24, 2013, at 9 a.m., and Friday, January 25, 2013, at 8:30 a.m.

ADDRESSES: The meetings will be held at the Marriott Portland at Sable Oaks, 200 Sable Oaks Drive, So. Portland, ME 04106; telephone: (207) 871-8000.

Council Address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

Thursday, January 24, 2013, Beginning at 9 a.m.

The Groundfish Oversight Committee will hold a joint meeting with the Groundfish Advisory Panel (GAP) and the Recreational Advisory Panel (RAP). The Committee and Panels will receive an update from the Closed Area Technical Team (CATT) on possible modifications to groundfish fishing closed areas that will be considered in conjunction with the establishment of habitat closed areas. The modifications are being developed as part of the Omnibus Essential Fish Habitat amendment (76 Federal Register 35408). The CATT will provide an overview of ongoing analyses and may provide suggested closure options for the Committee to consider. The Committee, after considering the advice of the GAP and RAP, may develop closed area recommendations for the Council's consideration. Alternatively, the Committee may provide additional guidance to the CATT.

Friday, January 25, 2013, Beginning at 8:30 a.m.

The Committee will meet to develop a specifications package that will specify Acceptable Biological Catches (ABCs) and Annual Catch Limits (ACLs) for fishing year 2013. The Committee may also develop advice for an interim action designed to reduce overfishing on Gulf of Maine cod and Gulf of Maine haddock in 2013. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: January 2, 2013.
William Chappell,
Acting Deputy Director, Office of Sustainable Fisheries, National Marine Fisheries Service.

[FR Doc. 2013-00061 Filed 1-4-13; 8:45 am]

BILLING CODE 3510-22-P